DEPARTMENT OF ENERGY

Federal Energy Regulatory Commission

[Project No. 12665-003]

New York Tidal Energy Company; Notice Concluding Pre-Filing Process and Approving Process Plan and Schedule

November 9, 2010.

a. Type of Filing: Notice of Intent to File Application for License for a Hydrokinetic Pilot Project.

b. Project No.: 12665-003.

c. Dated Filed: June 1, 2009.

d. Submitted By: New York Tidal Energy Company.

e. Name of Project: East River Tidal Energy Pilot Project.

f. Location: In the East River at Hell Gate, in New York City, New York. The project would not occupy Federal lands.

g. Filed Pursuant to: 18 CFR 5.3 of the Commission's regulations.

h. Applicant Contact: Daniel Power, Oceana Energy Company, 1785 Massachusetts Avenue, NW., Suite 100, Washington, DC 20036; phone: (202) 465-6405.

i. FERC Contact: Timothy Konnert (202) 502-6359.

j. New York Tidal Energy Company (NYTEC) has filed with the Commission: (1) A notice of intent (NOI) to file an application for a pilot hydrokinetic hydropower project and a draft license application with monitoring plans; (2) a request for waivers of certain Integrated Licensing Process (ILP) regulations necessary for expedited processing of a license application for a hydrokinetic pilot project; (3) a proposed process plan and schedule; and (4) a request to be designated as the non-Federal representative for section 7 of the Endangered Species Act (ESA) consultation and for section 106 consultation under the National Historic Preservation Act.

k. A notice was issued on June 10, 2009 soliciting comments on the draft license application from agencies and stakeholders. Comments were filed by Federal and State agencies, and non-governmental organizations. No comments were filed opposing the request to waive the integrated licensing process regulations or the proposed process plan and schedule.

l. The June 10, 2009 notice approved NYTEC's request to be designated as the non-Federal representative for section 7 of the ESA with the U.S. Fish and Wildlife Service and the National Marine Fisheries Service, and its request to initiate consultation under section 106 of the National Historic Preservation Act with the New York State Historic Preservation Officer.

m. The proposed East River Tidal Energy Pilot Project would consist of: (1) A 2-meter-diameter 20-kilowatt (kW) capacity hydrokinetic device during Phase 1, which would be replaced by a 6-meter-diameter 200-kW device in Phase 2; (2) a 1,300-foot-long transmission cable that would interconnect with the existing Wards Island Park System; and (3) appurtenant facilities for operating and maintaining the project. Based on the proposed 250 hours of testing operation per-year, the project is estimated to have an annual generation of 5 megawatt-hours per-year, which would be sold to a local utility.

n. The pre-filing process has been concluded and the requisite regulations have been waived such that the process and schedule indicated below can be implemented.

o. Post-filing process schedule. The post-filing process will be conducted pursuant to the following schedule. Revisions to the schedule may be made as needed.

Milestones | Dates
Final license application expected | January 31, 2011.
Issue notice of acceptance and ready for environmental analysis and request for interventions | February 15, 2011.
Issue biological assessment | February 15, 2011.
Comments and interventions due | March 17, 2011.
Issue notice of availability of environmental assessment | May 16, 2011.
Comments due and 10(j) resolution, if needed | June 15, 2011.

p. Register online at http://ferc.gov/esubscribenow.htm to be notified via e-mail of new filing and issuances related to this or other pending projects. For assistance, contact FERC Online Support.

Kimberly D. Bose,
Secretary.

[FR Doc. 2010-28914 Filed 11-16-10; 8:45 am]

BILLING CODE 6717-01-P